DEPARTMENT OF THE INTERIOR

Fish and Wildlife Service

[FWS-R4-ES-2016-N197; FXES11140400000-178-FF04E00000]

Incidental Take Permit Applications for Alabama Beach Mouse; Gulf Shores, Alabama

AGENCY: Fish and Wildlife Service, Interior.

ACTION: Notice of availability; request for comments.

SUMMARY: Under the Endangered Species Act, we, the U.S. Fish and Wildlife Service, announce the receipt and availability of three proposed low-effect habitat conservation plans and accompanying incidental take permit applications for take of Alabama beach mouse habitat incidental to construction in Orange Beach and Gulf Shores, Alabama. We invite public comments on these documents.

DATES: We must receive any written comments at our Alabama Field Office (see ADDRESSES) on or before December 19, 2016.

ADDRESSES: Obtaining Documents: Documents are available for public inspection by appointment during normal business hours at the Fish and Wildlife Service's Alabama Field Office, 1208-B Main Street, Daphne, AL 36526. Please submit comments by U.S. mail to the Fish and Wildlife Service's Alabama Field Office.

Submitting Comments: For information on how to submit comments, see Public Comments under SUPPLEMENTARY INFORMATION, below.

FOR FURTHER INFORMATION CONTACT: Mr. Bill Lynn, Wildlife Biologist, Alabama Field Office (see ADDRESSES); telephone: 251-441-5868.

SUPPLEMENTARY INFORMATION:

Introduction

We announce the availability of three proposed low-effect habitat conservation plans (HCPs), which analyze the take of the Alabama beach mouse (Peromyscus polionotus ammobates) (ABM) incidental to construction of one single-family home by Charles L. Jones on a 0.779-acre lot in Orange Beach, Alabama, and construction of two single-family homes by Duane A. Baker and Joe Colich on two 0.68-acre lots in Gulf Shores, Alabama. The applicants request incidental take permits (ITP) under section 10(a)(1)(B) of the Endangered Species Act (Act; 16 U.S.C. 1531 et seq.). If we approve these three ITPs, Charles L. Jones anticipates the taking of up to 0.11 acres of ABM habitat over a 50-year ITP, and Duane Baker and Joe Colich anticipate the taking of up to 0.10 acres on each lot of ABM habitat over a 50-year ITP.

Applicants' Proposals

Charles L. Jones

The applicant proposes to minimize and mitigate the take of up to 0.11 acres of ABM habitat at a lot off Highway 182 in Orange Beach, Alabama, by using standard ABM conservation measures at the proposed development and by donating an “in-lieu” fee to the Alabama Coastal Heritage Trust (ACHT) group (ACHT). The lot proposed for development currently is undeveloped, but developers will utilize an existing driveway to minimize impacts. The “in-lieu” fee will be donated to the ACHT group, which will use the fee to either manage, maintain, or acquire ABM habitat within the Gulf State Park critical habitat unit and/or immediately adjacent lands.

Baker-Colich

The applicants propose to minimize and mitigate the take of up to 0.20 acres of ABM habitat at two lots off Dacus Lane in Gulf Shores, Alabama, by using standard ABM conservation measures at the proposed development (such as minimizing construction footprint, restoration of native vegetation, and measures to minimize effects to ABM during occupancy and use of the development) and by donating a 0.14-acre lot in the proposed Gulf Highlands conservation area of the Fort Morgan Peninsula. The lots proposed for development are interior scrub lots that are part of a subdivided larger lot. The lot proposed for mitigation is within the proposed Gulf Highlands conservation area, contains high-quality interior scrub habitat, and will be donated to ACHT. ACHT will either place a conservation easement on the lot or eventually convey it as part of the future Gulf Highlands Conservation Area.

Our Preliminary Determination

We have made a preliminary determination that the applicants' projects, including the mitigation measures, will individually and cumulatively have a minor or negligible effect on the species covered in the HCPs. Therefore, our proposed issuance of the requested ITPs qualifies as a categorical exclusion under the National Environmental Policy Act (NEPA), as provided by Department of the Interior implementing regulations in part 46 of title 43 of the Code of Federal Regulations (516 DM 8.5C(1)).

We base our determination that issuance of each ITP qualifies as a low-effect action on the following three criteria: (1) Implementation of the project would result in minor or negligible effects on federally listed, proposed, and candidate species and their habitats; (2) implementation of the project would result in minor or negligible effects on other environmental values or resources; and (3) impacts of the plan, considered together with the impacts of other past, present, and reasonably foreseeable similarly situated projects, would not result, over time, in cumulative effects to environmental values or resources that would be considered significant. As more fully explained in our environmental action statement and associated Low-Effect Screening Form, the applicants' proposed projects qualify as “low-effect” projects. This preliminary determination may be revised based on our review of public comments that we receive in response to this notice.

Public Comments

Before including your address, phone number, email address, or other personal identifying information in your comment, you should be aware that your entire comment—including your personal identifying information—may be made publicly available at any time. While you can ask us in your comment to withhold your personal identifying information from public review, we cannot guarantee that we will be able to do so.

If you wish to comment, you may submit comments by any one of several methods. Please reference TE11097C-0 (Charles L. Jones), or TE11183C-0 (Duane A. Baker) and TE11182C-0 (Joe Colich) in such comments. You may mail comments to the Fish and Wildlife Service's Alabama Field Office (see ADDRESSES). Alternately, you may email comments to: william_lynn@fws.gov. Please include your name and return address in your email message. If you do not receive a confirmation from us that we have received your email message, contact us directly at the telephone number listed under FOR FURTHER INFORMATION CONTACT. Finally, you may hand-deliver comments to the Service's Alabama Field Office (see ADDRESSES).

Covered Area

The area encompassed by the HCPs and applications is the 0.779-acre lot located at 22756 Perdido Beach Boulevard, in Orange Beach, Alabama and the two 0.68-acre lots located off Dacus Lane, in Gulf Shores, Alabama.

Next Steps

We will evaluate the ITP applications, including the HCPs and any comments we receive, to determine whether the applications meet the requirements of section 10(a)(1)(B) of the Act. We will also evaluate whether issuance of a section 10(a)(1)(B) ITP complies with section 7 of the Act by conducting an intra-Service section 7 consultation. We will use the results of this consultation, in combination with the above findings, in our final analysis to determine whether or not to issue the ITPs. If we determine that the requirements are met, we will issue the ITPs for the incidental take of ABM habitat.

Authority

We provide this notice under section 10 of the Act (16 U.S.C. 1531 et seq.) and NEPA regulations (40 CFR 1506.6).

Dated: November 14, 2016.
William J. Pearson,
Field Supervisor, Alabama Ecological Services Field Office.

[FR Doc. 2016-27766 Filed 11-17-16; 8:45 am]

BILLING CODE 4333-15-P